DEPARTMENT OF THE INTERIOR

Bureau of Land Management

[LLOR936000-14300000-ET0000; HAG-11-0167; OROR-44410]

Public Land Order No. 7771; Extension of Public Land Order No. 6865; Oregon

AGENCY: Bureau of Land Management, Interior.

ACTION: Public Land Order.

SUMMARY: This order extends the duration of the withdrawal created by Public Land Order No. 6865 for an additional 20-year period. The extension is necessary to continue protection of the significant historic and cultural resource values along with the investment of Federal funds at the National Historic Oregon Trail Interpretive Center at Flagstaff Hill.

DATES: Effective Date: July 17, 2011.

FOR FURTHER INFORMATION CONTACT: Charles R. Roy, Bureau of Land Management, Oregon/Washington State Office, 503-808-6189, or Sarah LeCompte, Bureau of Land Management Oregon Vale Field Office, 541-523-1825.

SUPPLEMENTARY INFORMATION: The purpose for which the withdrawal was first made requires this extension in order to continue protection of the significant historic and cultural resource values along with the investment of Federal funds at the National Historic Oregon Trail Interpretive Center at Flagstaff Hill. The withdrawal extended by this order will expire on July 16, 2031, unless as a result of a review conducted prior to the expiration date pursuant to Section 204(f) of the Federal Land Policy and Management Act of 1976, 43 U.S.C. 1744(f), the Secretary determines that the withdrawal shall be further extended.

Order

By virtue of the authority vested in the Secretary of the Interior by Section 204 of the Federal Land Policy and Management Act of 1976, 43 U.S.C. 1714, it is ordered as follows:

Public Land Order No. 6865 (56 FR 32515 (1991)), which withdrew 507.50 acres of public land from settlement, sale, location, or entry under the general land laws, including the United States mining laws (30 U.S.C. Ch 2), but not from leasing under the mineral leasing laws or disposal under the mineral materials laws, to protect the National Historic Oregon Trail Interpretive Center at Flagstaff Hill, is hereby extended for an additional 20-year period until July 16, 2031.

Authority: 43 CFR 2310.4.

Dated: June 16, 2011.
Wilma A. Lewis,
Assistant Secretary—Land and Minerals Management.

[FR Doc. 2011-16400 Filed 6-28-11; 8:45 am]

BILLING CODE 4310-33-P